DEPARTMENT OF TRANSPORTATION

Federal Aviation Administration

Notice of Opportunity for Public Comment on a Land Use Change From Aeronautical to Non-Aeronautical Use for Revenue Generation of 5 Acres of Airport Land at Nantucket Memorial Airport, Nantucket, MA

AGENCY: Federal Aviation Administration (FAA), DOT.

ACTION: Request for public comments.

SUMMARY: Notice is being given that the FAA is considering a request from the Town of Nantucket in Nantucket, MA, to change the current land use from aeronautical use to non-aeronautical use of a 5 acre parcel of land. The parcel is located in the northwestern quadrant of the airport and is adjacent to other non-airport parcels used for industrial and/or commercial use properties. The parcel is currently identified as surplus for non-aeronautical use on the airport's September 16, 2015 Airport Layout Plan. The parcel will be used to generate non-aeronautical revenue through the lease of land for industrial/commercial use. All revenues through the leasing of the parcel will continue to be subject to the FAA's revenue-use policy and dedicated to the maintenance and operation of Nantucket Memorial Airport.

DATES: Comments must be received on or before July 5, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on May 24, 2017.
Mary T. Walsh,
Manager, ANE-600.

[FR Doc. 2017-11478 Filed 6-2-17; 8:45 am]

BILLING CODE P